DEPARTMENT OF ENERGY

Federal Energy Regulatory Commission

[Docket No. EL09-6-000]

Frankfort Electric and Water Plant Board; City of Barbourville, Kentucky; City of Bardstown, Kentucky; City of Bardwell, Kentucky; City of Benham, Kentucky; City of Berea, Kentucky; City of Corbin, Kentucky; City of Falmouth, Kentucky; City of Madisonville, Kentucky; City of Nicholasville, Kentucky; City of Paris, Kentucky; City of Providence, Kentucky, Complainants, v. Kentucky Utilities Co., Respondent; Notice of Complaint

October 28, 2008.

Take notice that on October 27, 2008, Frankfort Electric and Water Plant Board, and cities of Barbourville, Bardstown, Bardwell, Benham, Berea, Corbin, Falmouth, Madisonville, Nicholasville, Paris, and Providence, Kentucky (Complainants) filed, pursuant to section 206 of the Federal Power Act and 18 CFR 385.206 of the Commission regulations, a formal complaint against Kentucky Utilities Company (Respondent) alleging that Respondent's filing in Docket No. ER08-1588 is unreasonable and anticompetitive, and contrary to statute and contract. For purposes of decision and investigation, Complainants seek to consolidate the instant complaint with the proceeding in Docket No. ER08-1588. Complainants also request a refund effective date of October 27, 2008.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 17, 2008.

Kimberly D. Bose,
Secretary.

[FR Doc. E8-26192 Filed 11-03-08; 8:45 am]

BILLING CODE 6717-01-P